SMALL BUSINESS ADMINISTRATION

[Disaster Declaration #13393]

Alaska Disaster #AK-00026 Declaration of Economic Injury

AGENCY: U.S. Small Business Administration.

ACTION: Notice.

SUMMARY: This is a notice of an Economic Injury Disaster Loan (EIDL) declaration for the State of Alaska, dated 11/21/2012.

Incident: 2012 Alaska Chinook Salmon Fishery Disaster.

Incident Period: 06/01/2012 through 08/30/2012.

Effective Date: 11/21/2012.

EIDL Loan Application Deadline Date: 08/21/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Kenai Peninsula Borough, Lower Kuskokwim REAA, Lower Yukon REAA, Matanuska-Susitna Borough.

Contiguous Counties:

Alaska: Bering Strait REAA, Chugach REAA, Copper River REAA, Delta/Greely REAA, Denali Borough, Iditarod Area REAA, Kashunamiut (Chevak) REAA, Kodiak Island Borough, Kuspuk REAA, Lake And Peninsula Borough, Municipality of Anchorage, Southwest Region REAA, Yupiit REAA.

The Interest Rates are:

| Percent
Businesses And Small Agricultural Cooperatives Without Credit Available Elsewhere | 4.000
Non-Profit Organizations Without Credit Available Elsewhere | 3.000

The number assigned to this disaster for economic injury is 133930.

The State which received an EIDL Declaration # is Alaska.

(Catalog of Federal Domestic Assistance Number 59002)

Dated: November 21, 2012.
Karen G. Mills,
Administrator.

[FR Doc. 2012-29144 Filed 11-30-12; 8:45 am]

BILLING CODE 8025-01-P